DEPARTMENT OF COMMERCE

National Oceanic and Atmospheric Administration

Office of Oceanic and Atmospheric Research; NOAA Ocean Exploration Advisory Working Group

AGENCY: Office of Oceanic and Atmospheric Research (OAR), National Oceanic and Atmospheric Administration (NOAA), Department of Commerce (DOC).

ACTION: Notice of solicitation for members of the NOAA Ocean Exploration Advisory Working Group.

SUMMARY: The Under Secretary of Commerce for Oceans and Atmosphere has requested the NOAA Science Advisory Board to provide it with timely and expert advice and oversight of the Ocean Exploration Program. The SAB is chartered under the Federal Advisory Committee Act and is the only Federal Advisory Committee with the responsibility to advise the Under Secretary on long- and short-range strategies for research, education, and application of science to resource management and environmental assessment and prediction. The SAB is forming an external panel to provide general priorities for ocean exploration, including geographic areas of interest as well as subject matter topics; advice concerning emerging ocean exploration-relevant technologies; and to conduct periodic reviews of the program for the purpose of assessing program accomplishments and providing guidance and perspective for the program's future. Nominations to the panel are being solicited. The intent is to select from the nominees; however, the SAB retains the prerogative to name people to the working group that were not nominated if it deems it is necessary to achieve the desired balance. Once selected, the SAB will post the review panel members' names at http://www.sab.noaa.gov.

DATES: Nominations must be received by June 23, 2005.

ADDRESSES: Nominations should be submitted electronically to noaa.sab.exploration@noaa.gov.

FOR FURTHER INFORMATION CONTACT: Dr. Michael Uhart: 301-713-9121, ext. 159.

SUPPLEMENTARY INFORMATION: The Ocean Exploration Advisory Working Group will consist of approximately nine individuals from academia, government, industry, and other ocean-related institutions. This group will provide its findings and results to the Science Advisory Board, which will deliberate on the input before forwarding it to NOAA. NOAA is seeking individuals that have national and international reputations; and degrees, or professional qualifications, in: Physical, chemical, or biological oceanography, social sciences, or ocean engineering, technology, and/or operations. They should be familiar with NOAA's organization and Strategic Plan and have scientific credentials and/or relevant experience that will enable them to provide expert advice concerning the Ocean Exploration Program's roles within the context of NOAA's ocean missions and policies. They should be familiar with the organization and management of complex, interdisciplinary science programs. Members will be appointed for three-year terms, renewable once, and serve at the discretion of the Secretary. Initial appointments will include one-third each four- and five-year terms. Vacancy appointments shall be for the remainder of the unexpired term of the vacancy, and shall be renewable twice if the unexpired term is less than one year.

The Terms of Reference for the review is posted at: http://www.sab.noaa.gov/Working%20Groups/Working%20Groups.htm.

Nominations:

Anyone is eligible to nominate and self-nominations will be accepted. Nominations should provide: (1) The nominee's full name, title, institutional affiliation, and contact information; (2) the nominee's area(s) of expertise; and (3) a short description of their qualifications relative to the kinds of advice being solicited. Inclusion of a resume is desirable.

Dated: May 26, 2005.
Louisa Koch,
Deputy Assistant Administrator, Office of Oceanic and Atmospheric Research, National Oceanic and Atmospheric Administration, Atmospheric Administration.

[FR Doc. 05-10929 Filed 6-1-05; 8:45 am]

BILLING CODE 3510-KD-P